DEPARTMENT OF ENERGY

Federal Energy Regulatory Commission

[Docket No. EC04-78-000, et al.]

Mesquite Investors, L.L.C., et al.; Electric Rate and Corporate Filings

March 23, 2004.

The following filings have been made with the Commission. The filings are listed in ascending order within each docket classification.

1. Mesquite Investors, L.L.C., Dartmouth Power Holding Company, L.L.C., Mesquite Colorado Holdco, L.L.C., Vandolah Holding Company, L.L.C., and Northern Star Generation, L.L.C.

[Docket No. EC04-78-000]

Take notice that on March 19, 2004, Mesquite Investors, L.L.C., Dartmouth Power Holding Company, L.L.C., Mesquite Colorado Holdco, L.L.C., Vandolah Holding Company, L.L.C. and Northern Star Generation L.L.C. (jointly, Applicants) filed with the Commission an application pursuant to section 203 of the Federal Power Act for authorization to effectuate an indirect change of control over the facilities owned by Dartmouth Power Associates Limited Partnership, Front Range Power Company, L.L.C. and Vandolah Power Company, L.L.C. that are subject to the Commission's jurisdiction under the Federal Power Act. Applicants also requested authorization for an internal reorganization. Applicants also requested expedited consideration of the Application and privileged treatment for certain exhibits pursuant to 18 CFR 33.9 and 388.112.

Comment Date: April 9, 2004.

2. Williams Energy Marketing & Trading Company California Independent System Operator, et al. v. Cabrillo Power I L.L.C., et al.

[Docket Nos. ER02-91-001, ER02-303-001, and EL02-15-001]

Take notice that on March 19, 2004, Williams Energy Marketing & Trading Company, submitted a Compliance Refund Report, in response to the Commission's Order issued October 31, 2003 in Docket Nos. ER02-91-000, ER02-303-000, and EL02-15-000, 105 FERC ¶ 61,165 (2003).

Comment Date: April 9, 2004.

3. Public Service Company of Colorado

[Docket No. ER03-971-003]

Take notice that on March 18, 2004, Public Service Company of Colorado (PS Colorado) submitted a compliance filing pursuant to the order issued February 27, 2004, in Docket Nos. ER03-971-000, 001 and 002, 106 FERC ¶ 61,189 (2004).

PS Colorado states that a copy of this filing has been served on each person designated on the official service list in Docket No. ER03-971-000.

Comment Date: April 8, 2004.

4. Duke Energy Corporation

[Docket Nos. ER04-455-001 and ER04-506-001]

Take notice that on March 19, 2004, Duke Energy Corporation, on behalf of Duke Electric Transmission, (collectively, Duke) tendered for filing revised Network Integration Service Agreements (NITSAs) with (1) North Carolina Electric Membership Corporation and (2) Western Carolina Energy, LLC, as agent for Energy United Electric Membership Corporation, Piedmont Electric Membership Corporation, Blue Ridge Electric Membership Corporation, and Rutherford Electric Membership. Duke seeks an effective date for the revised NITSAs of January 1, 2004.

Comment Date: April 9, 2004.

6. Lowell Power LLC

[Docket No. ER04-557-001]

Take notice that on March 19, 2004, Lowell Power LLC (Seller) submitted to the Commission a revised electric rate schedule reflecting its name change from UAE Lowell Power LLC to Lowell Power LLC.

Comment Date: April 9, 2004.

7. California Independent System Operator Corporation

[Docket No. ER04-609-001]

Take notice that on March 19, 2004, the California Independent System Operator Corporation (ISO) submitted an errata filing concerning Amendment No. 58 to the ISO Tariff, which the ISO filed for acceptance by the Commission on March 2, 2004, in the Docket No. ER04-609-001.

The ISO states that the filing has been served on the California Public Utilities Commission, the California Energy Commission, the California Electricity Oversight Board, all parties in the Amendment No. 54 proceeding (Docket No. ER03-1046), and all parties with effective Scheduling Coordinator Agreements under the ISO Tariff.

Comment Date: April 9, 2004.

8. Reliant Energy Aurora, LP

[Docket No. ER04-662-000]

Take notice that on March 18, 2004, Reliant Energy Aurora, LP (Aurora) submitted for filing its FERC Rate Schedule No. 1, pursuant to which Aurora will provide black start service to Commonwealth Edison Company. Aurora requests an effective date of May 19, 2004.

Comment Date: April 8, 2004.

9. Alabama Power Company

[Docket No. ER04-664-000]

Take notice that on March 19, 2004, Alabama Power Company (APCo) filed an amendment to the Amended and Restated Agreement for Partial Requirements and Complementary Services Between APCo and the Alabama Municipal Electric Authority (AMEA). The amendment sets forth APCo's and AMEA's agreement regarding the connection and parallel operation of an AMEA resource to APCo's electric system. An effective date of February 19, 2004 is requested.

Comment Date: April 9, 2004.

Standard Paragraph

Any person desiring to intervene or to protest this filing should file with the Federal Energy Regulatory Commission, 888 First Street NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-717 Filed 3-30-04; 8:45 am]

BILLING CODE 6717-01-P